DEPARTMENT OF TRANSPORTATION

Surface Transportation Board

[STB Finance Docket No. 34047 (Sub-No. 1)]

Kansas & Oklahoma Railroad, Inc.-Trackage Rights Exemption-Central Kansas Railway, L.L.C.

AGENCY: Surface Transportation Board, DOT.

ACTION: Notice of exemption.

SUMMARY: The Board, under 49 U.S.C. 10502, exempts the trackage rights described in STB Finance Docket No. 34047 ¹ to permit the trackage rights to expire, as they relate to the operations extending near Garden Plains and Wichita, on the date that CKR certifies the completion of a line-relocation project near Kingman, KS, and a line-rehabilitation project between Wichita and Kingman, via Conway Springs, KS.²

¹ On May 25, 2001, K&O filed a notice of exemption under the Board's class exemption procedures at 49 CFR 1180.2(d)(7). The notice covered the trackage rights agreement by Central Kansas Railway, L.L.C. (CKR) to grant temporary overhead trackage rights to K&O over CKR track located between CKR milepost 19.5, near Garden Plain, KS, and CKR milepost 3.5, at Wichita, KS, a distance of 16 miles. See Kansas & Oklahoma Railroad, Inc.—Trackage Rights Exemption—Central Kansas Railway, L.L.C., STB Finance Docket No. 34047 (STB served June 12, 2001).

² K&O has indicated that it currently expects to have the relocation and rehabilitation projects completed and to cease operating over CKR's line some time in October 2001.

DATES: This exemption is effective on November 8, 2001. Petitions to reopen must be filed by November 28, 2001.

ADDRESSES: An original and 10 copies of all pleadings referring to STB Finance Docket No. 34047 (Sub-No. 1) must be filed with the Surface Transportation Board, Office of the Secretary, Case Control Unit, 1925 K Street, NW., Washington, DC 20423-0001. In addition, a copy of all pleadings must be served on petitioner's representative Karl Morell, Esq., BALL JANIK LLP, 1455 F Street, NW., Suite 225, Washington, DC 20005.

FOR FURTHER INFORMATION CONTACT: Joseph H. Dettmar, (202) 565-1600. (TDD for the hearing impaired: 1 (800) 877-8339.)

SUPPLEMENTARY INFORMATION: Additional information is contained in the Board's decision. To purchase a copy of the full decision, write to, call, or pick up in person from: D̄ 2 D̄ Legal, Suite 405, 1925 K Street, NW., Washington, DC 20006. Telephone: (202) 293-7776. (Assistance for the hearing impaired is available through TDD services 1 (800) 877-8339.)

Board decisions and notices are available on our website at www.stb.dot.gov.

Decided: November 1, 2001.
By the Board, Chairman Morgan, Vice Chairman Clyburn, and Commissioner Burkes.
Vernon A. Williams,
Secretary.

[FR Doc. 01-27952 Filed 11-7-01; 8:45 am]

BILLING CODE 4915-00-P